DEPARTMENT OF TRANSPORTATION

Federal Aviation Administration

14 CFR Part 71

[Docket No. FAA-2016-9559; Airspace Docket No. 16-ACE-11]

Proposed Amendment of Class D and E Airspace for the Following Missouri Towns; Cape Girardeau, MO; St. Louis, MO; and Macon, MO

AGENCY: Federal Aviation Administration (FAA), DOT.

ACTION: Notice of proposed rulemaking (NPRM).

SUMMARY: This action proposes to modify Class D airspace at Spirit of St. Louis Airport, St. Louis, MO; Class E airspace designated as a surface area at Cape Girardeau Regional Airport, Cape Girardeau, MO, and Spirit of St. Louis Airport; Class E airspace designated as an extension at Cape Girardeau Regional Airport; and Class E airspace extending upward from 700 feet above the surface at Cape Girardeau Regional Airport, Spirit of St. Louis Airport, and Macon-Fower Memorial Airport, Macon, MO. Cancellation of standard instrument approach procedures at these airports prompted the FAA to conduct a review of the airspace. Additionally, the name of Cape Girardeau Regional Airport (formerly Cape Girardeau Municipal Airport) and the geographic coordinates of St. Louis Regional Airport, Alton/St. Louis, MO; the OBLIO Locator Outer Marker (LOM), and the Macon-Fower Memorial Airport would be adjusted to coincide with the FAA's aeronautical database. The airspace designation for Macon-Fower, MO, in Class E airspace extending upward from 700 feet above the surface would be removed as it is a duplicate entry of the Macon, MO, airspace designation.

DATES: Comments must be received on or before August 7, 2017.

ADDRESSES: Send comments on this proposal to the U.S. Department of Transportation, Docket Operations, West Building Ground Floor, Room W12-140, 1200 New Jersey Avenue SE., Washington, DC 20590; telephone (202) 366-9826, or 1-800-647-5527. You must identify FAA Docket No. FAA-2016-9559; Airspace Docket No. 16-ACE-11, at the beginning of your comments. You may also submit comments through the Internet at http://www.regulations.gov. You may review the public docket containing the proposal, any comments received, and any final disposition in person in the Dockets Office between 9:00 a.m. and 5:00 p.m., Monday through Friday, except Federal holidays.

FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D airspace at Spirit of St. Louis Airport, St. Louis, MO; Class E airspace designated as a surface area at Cape Girardeau Regional Airport and Spirit of St. Louis Airport; Class E airspace designated as an extension at Cape Girardeau Regional Airport; and Class E airspace extending upward from 700 feet above the surface at Cape Girardeau Regional Airport, Spirit of St. Louis Airport, and Macon-Fower Memorial Airport, Macon, MO.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2016-9559/Airspace Docket No. 16-ACE-11.” The postcard will be date/time stamped and returned to the commenter.

Availability of NPRMs

An electronic copy of this document may be downloaded through the Internet at http://www.regulations.gov. Recently published rulemaking documents can also be accessed through the FAA's Web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents Proposed for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

Cancellation of standard instrument approach procedures prompted the FAA to conduct a review of the airspace at the Spirit of St. Louis Airport, Cape Girardeau Regional Airport, and Macon-Fower Memorial Airport. Controlled airspace is necessary for the safety and management of the standard instrument approach procedures for IFR operations at these airports.

The FAA is proposing an amendment to Title 14 Code of Federal Regulations (14 CFR) part 71 by modifying:

Class D airspace at Cape Girardeau Regional Airport (formerly Cape Girardeau Municipal Airport) by updating the name of the airport to coincide with the FAA's aeronautical database;

Class D airspace to within a 4.4-mile radius (increased from a 4.3-mile radius) at Spirit of St. Louis Airport, St. Louis, MO, and adding an extension within 1 mile each side of the 079° bearing from the airport extending from the 4.4-mile radius to 4.6 miles east of the airport, and adjusting the extension west of the airport to within 1 mile each side of the 259° bearing (previously 258°) from the airport extending from the 4.4-mile radius to 4.6 miles west of the airport;

Class E airspace designated as a surface area at Cape Girardeau Regional Airport (formerly Cape Girardeau Municipal Airport) by adding the vertical limits from the surface to and including 2,800 feet, adding the part time language to the description, and updating the name of the airport to coincide with the FAA's aeronautical database;

Class E airspace designated as a surface area to within a 4.4-mile radius (increased from a 4.3-mile radius) at Spirit of St. Louis Airport, St. Louis, MO, adding an extension to within 1 mile each side of the 079° bearing from the airport extending from the 4.4-mile radius to 4.6 miles east of the airport, and adding an extension within 1 mile each side of the 259° bearing from the airport extending from the 4.4-mile radius to 4.6 miles west of the airport;

Class E airspace designated as an extension to Class E surface are at Cape Girardeau Regional Airport (formerly Cape Girardeau Municipal Airport), Cape Girardeau, MO, by adding an extension 1 mile each side of the 023° bearing from the airport from the 4.1-mile radius of the airport to 4.4 miles to the north of the airport, adjusting the extension to the east of the airport to within 1 mile (decreased from 2.6 miles) each side of the 108° bearing from the Cape Girardeau Regional Localizer (previously the Cape Girardeau VOR/DME) from the 4.1-mile radius to 4.4 miles east of the airport, adjusting the extension to the south of the airport to within 2.4 miles (previously 2.6 miles) each side of the 196° (previously 194°) radial of the Cape Girardeau VOR/DME from the 4.1-mile radius of the airport extending to 7.2 miles (increased from 5.7 miles), adjusting the extension west of the airport to within 1 mile (decreased from 2.6 miles) each side of the 287° (previously 279°) radial from the Cape Girardeau VOR/DME from the 4.1-mile radius to 4.4 miles (decreased from 7.4 miles) west of the airport, and updating the name of the airport to coincide with the FAA's aeronautical database;

Class E airspace areas extending upward from 700 feet above the surface:

At Cape Girardeau Regional Airport, Cape Girardeau, MO, by adding an extension to the north of the airport within 2 miles each side of the 203° bearing from the airport from the 6.6-mile radius of the airport to 7.3 miles, adjusting the extension to the east to within 3.8 miles (increased from 2.5 miles) each side of the 108° bearing from the Cape Girardeau Localizer (previously from the Cape Girardeau VOR/DME) extending from the 6.6-mile radius to 14 miles (increased from 8.7 miles), adjusting the extension to the south of the airport to within 2.4 miles (reduced from 3 miles) each sided of the 196° radial (previously 194°) from the Cape Girardeau VOR/DME from the 6.6-mile radius to 7.2 miles (decreased from 10 miles) south of the airport, adding an extension within 1.9 miles each side of the 023° bearing from the airport from the 6.6-mile radius of the airport to 7.5 miles south of the airport, adjusting the extension to the west of the airport to within 2 miles (decreased from 3 miles) each side of the 280° (previously 279°) bearing from the airport (previously the Cape Girardeau VOR/DME) extending from the 6.6-mile radius to 7.4 miles (decreased from 8.7 miles) west of the airport, and updating the name of the airport to coincide with the FAA's aeronautical database;

Within a 6.9-mile radius (increased from a 6.8-mile radius) of the Spirit of St. Louis Airport, St. Louis, MO, adding an extension 4.2 miles north and 6.4 miles south of the 259° bearing from the Spirit of St. Louis Localizer extending from the 6.6-mile radius of the airport to 11.3 miles east of the Spirit of St. Louis Localizer, adding an extension within 2.5 miles each side of the 079° bearing from the airport from the 6.9-mile radius to 8.1 miles east of the airport, adjusting the extension to the west of the airport to within 3.9 miles each side of the 259° (from 258°) bearing from the airport extending from the 6.9 mile radius to 10.6 miles west of the airport, removing an extension west of the airport referencing the Foristell VORTAC, removing the Foristell VORTAC from the description, and updating the geographic coordinates for St. Louis Regional Airport, Alton/St. Louis, MO, and the OBLIO LOM to coincide with the FAA's aeronautical database;

And within a 6.7-mile radius (increased from a 6.5-mile radius) of Macon-Fower Memorial Airport, Macon, MO, and updating the geographic coordinates of the airport to coincide with the FAA's aeronautical database. The duplicate airspace designation listed as Macon-Fower, MO, in FAA Order 7400.11A, would be removed.

This action also would make an editorial change in the airspace description for Class D, Class E surface area, and Class E extension airspace, replacing Airport/Facility Directory with the current term Chart Supplement.

Class D and E airspace designations are published in paragraph 5000, 6002, 6004, and 6005, respectively, of FAA Order 7400.11A, dated August 3, 2016, and effective September 15, 2016, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ACE MO D Cape Girardeau, MO [Amended]

Cape Girardeau Regional Airport, MO

(Lat. 37°13′31″ N., long. 89°34′15″ W.)

That airspace extending upward from the surface to and including 2,800 feet within a 4.1-mile radius of Cape Girardeau Regional Airport. This Class D airspace area is effective during the specific dates and times established in advance by a Notice to Airmen. The effective date and time will thereafter be continuously published in the Chart Supplement.

* * * * *

ACE MO D St. Louis, Spirit of St. Louis Airport, MO [Amended]

St. Louis, Spirit of St. Louis Airport, MO

(Lat. 38°39′44″ N., long. 90°39′07″ W.)

That airspace extending upward from the surface to and including 3,000 feet within a 4.4-mile radius of Spirit of St. Louis Airport, and within 1 mile each side of the 079° bearing from the airport extending from the 4.4-mile radius to 4.6 miles east of the airport, and within 1 mile each side of the 259° bearing from the airport extending from the 4.4-mile radius to 4.6 miles west of the airport, excluding that airspace within the St. Louis, MO Class B airspace area. This Class D airspace area is effective during the specific dates and times established in advance by a Notice to Airmen. The effective dates and times will thereafter be continuously published in the Chart Supplement.

Paragraph 6002 Class E Surface Airspace.

* * * * *

ACE MO E2 Cape Girardeau, MO [Amended]

Cape Girardeau Regional Airport, MO

(Lat. 37°13′31″ N., long. 89°34′15″ W.)

That airspace extending upward from the surface to and including 2,800 feet within a 4.1-mile radius of the Cape Girardeau Regional Airport. This Class E airspace area is effective during the specific dates and times established in advance by a Notice to Airmen. The effective date and time will thereafter be continuously published in the Chart Supplement.

* * * * *

ACE MO E2 St. Louis, Spirit of St. Louis Airport, MO [Amended]

St. Louis, Spirit of St. Louis Airport, MO

(Lat. 38°39′44″ N., long. 90°39′07″ W.)

That airspace extending upward from the surface to and including 3,000 feet within a 4.4-mile radius of Spirit of St. Louis Airport, and within 1 mile each side of the 079° bearing from the airport extending from the 4.4-mile radius to 4.6 miles east of the airport, and within 1 mile each side of the 259° bearing from the airport extending from the 4.4-mile radius to 4.6 miles west of the airport, excluding that airspace within the St. Louis, MO Class B airspace area. This Class E airspace area is effective during the specific dates and times established in advance by a Notice to Airmen. The effective dates and times will thereafter be continuously published in the Chart Supplement.

Paragraph 6004 Class E Airspace Designated as an Extension to Class E Surface Area.

* * * * *

ACE MO E4 Cape Girardeau, MO [Amended]

Cape Girardeau Regional Airport, MO

(Lat. 37°13′31″ N., long. 89°34′15″ W.)

Cape Girardeau Regional Localizer

(Lat. 37°13′18″ N., long. 89°33′25″ W.)

Cape Girardeau VOR/DME

(Lat. 37°13′39″ N., long. 89°34′21″ W.)

That airspace extending upward from the surface within 1 mile each side of the 023° bearing from the airport extending from the 4.1-mile radius to 4.4 miles north of the airport, and within 1 mile each side of the 108° bearing from the Cape Girardeau Localizer extending from the 4.1-mile radius to 4.4 miles east of the airport, and within 2.4 miles each side of the 196° radial of the Cape Girardeau VOR/DME extending from the 4.1-mile radius of the airport to 7.2 miles south of the airport, and within 1 mile each side of the 287° radial of the Cape Girardeau VOR/DME extending from the 4.1-mile radius of the airport to 4.4 miles west of the airport.

Paragraph 6005 Class E Airspace Areas Extending Upward From 700 Feet or More Above the Surface of the Earth.

* * * * *

ACE MO E5 Cape Girardeau, MO [Amended]

Cape Girardeau Regional Airport, MO

(Lat. 37°13′31″ N., long. 89°34′15″ W.)

Cape Girardeau Regional Localizer

(Lat. 37°13′18″ N., long. 89°33′25″ W.)

Cape Girardeau VOR/DME

(Lat. 37°13′39″ N., long. 89°34′21″ W.)

That airspace extending upward from 700 feet above the surface within a 6.6-mile radius of the airport, and within 1.9 miles each side of the 023° bearing from the airport extending from the 6.6-mile radius to 7.3 miles north of the airport, and within 3.8 miles each side of the 108° bearing from the Cape Girardeau Localizer extending from the 6.6-mile radius to 14 miles east of the airport, and within 2.4 miles each side of the 196° radial of the Cape Girardeau VOR/DME extending from the 6.6-mile radius to 7.2 miles south of the airport, and within 2 miles each side of the 203° bearing from the airport from the 6.6-mile radius to 7.5 miles south of the airport, and within 2 miles each side of the 280° bearing from the airport extending from the 6.6-mile radius to 7.4 miles west of the airport.

* * * * *

ACE MO E5 St. Louis, MO [Amended]

St. Louis, Lambert-St. Louis International Airport, MO

(Lat. 38°44′55″ N., long. 90°22′12″ W.)

St. Louis, Spirit of St. Louis Airport, MO

(Lat. 38°39′44″ N., long. 90°39′07″ W.)

Alton/St. Louis, St. Louis Regional Airport, MO

(Lat. 38°53′24″ N., long. 90°02′46″ W.)

St. Charles, St. Charles County Smartt Airport, MO

(Lat. 38°55′47″ N., long. 90°25′48″ W.)

St. Louis VORTAC

(Lat. 38°51′38″ N., long. 90°28′57″ W.)

ZUMAY LOM

(Lat. 38°47′17″ N., long. 90°16′44″ W.)

OBLIO LOM

(Lat. 38°48′01″ N., long. 90°28′29″ W.)

Spirt of St. Louis Localizer

(Lat. 38°39′26″ N., long. 90°39′48″ W.)

Civic Memorial NDB

(Lat. 38°53′32″ N., long. 90°03′23″ W.)

That airspace extending upward from 700 feet above the surface within a 7.1-mile radius of Lambert-St. Louis International Airport, and within 4 miles southeast and 7 miles northwest of the Lambert-St. Louis International Airport Runway 24 ILS localizer course extending from the airport to 10.5 miles northeast of the ZUMAY LOM, and within 4 miles southwest and 7.9 miles northeast of the Lambert-St. Louis International Airport Runway 12R ILS localizer course extending from the airport to 10.5 miles northwest of the OBLIO LOM, and within 4 miles southwest and 7.9 miles northeast of the Lambert-St. Louis International Airport Runway 30L ILS localizer course extending from the airport to 8.7 miles southeast of the airport, and within a 6.9-mile radius of Spirit of St. Louis Airport, and within 2.5 miles each side of the 079° bearing from the Spirit of St. Louis Airport extending from the 6.9-mile radius of the airport to 8.1 miles east of the airport, and within 4.2 miles north and 6.4 miles south of the 259° bearing from the Spirit of St. Louis Localizer extending from the 6.9-mile radius of the Spirit of St. Louis Airport to 11.3 miles east of the Spirit of St. Louis Localizer, and within 3.9 miles each side of the 259° bearing from the Spirit of St. Louis Airport extending from the 6.9-mile radius of the airport to 10.6 miles west of the airport, and within a 6.4-mile radius of St. Charles County Smartt Airport, and within a 6.9-mile radius of St. Louis Regional Airport, and within 4 miles each side of the 014° bearing from the Civic Memorial NDB extending from the 6.9-mile radius of St. Louis Regional Airport to 7 miles north of the airport, and within 4.4 miles each side of the 190° radial of the St. Louis VORTAC extending from 2 miles south of the VORTAC to 22.1 miles south of the VORTAC.

* * * * *

ACE MO E5 Macon-Fower, MO [Removed]

* * * * *

ACE MO E5 Macon, MO [Amended]

Macon-Fower Memorial Airport, MO

(Lat. 39°43′47″ N., long. 92°27′24″ W.)

That airspace extending upward from 700 feet above the surface within a 6.7-mile radius of Macon-Fower Memorial Airport.

Issued in Fort Worth, Texas, on June 14, 2017.
Walter Tweedy,
Acting Manager, Operations Support Group, ATO Central Service Center.

[FR Doc. 2017-12993 Filed 6-21-17; 8:45 am]

BILLING CODE 4910-13-P